SMALL BUSINESS ADMINISTRATION

[Disaster Declaration # 10440 and # 10441]

Tennessee Disaster Number TN-00008

AGENCY: U.S. Small Business Administration.

ACTION: Amendment 2.

SUMMARY: This is an amendment of the Presidential declaration of a major disaster for the State of Tennessee (FEMA-1634-DR), dated 04/05/2006.

Incident: Tornadoes and Severe Storms.

Incident Period: 04/02/2006 through 04/08/2006.

Effective Date: 04/17/2006.

Physical Loan Application Deadline Date: 06/05/2006.

EIDL Loan Application Deadline Date: 01/05/2007.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416

SUPPLEMENTARY INFORMATION: The notice of the Presidential disaster declaration for the State of Tennessee , dated 04/05/2006 is hereby amended to include the following areas as adversely affected by the disaster:

Primary Counties:

Benton, Cannon, Carroll, Cheatham, Cumberland, Davidson, Dickson, Fayette, Haywood, Maury, Sumner, Warren, Weakley.

Contiguous Counties:

Tennessee:

Bledsoe, Coffee, Decatur, Dekalb, Fentress, Giles, Grundy, Hardeman, Henderson, Henry, Hickman, Houston, Humphreys, Lawrence, Lewis, Macon, Marshall, Montgomery, Morgan, Perry, Putnam, Rhea, Roane, Robertson, Rutherford, Sequatchie, Shelby, Stewart, Tipton, Trousdale, Van Buren, White, Williamson, Wilson.

Kentucky:

Allen, Graves, Hickman, Simpson.

Mississippi:

Benton, Marshall.

All other information in the original declaration remains unchanged.

(Catalog of Federal Domestic Assistance Numbers 59002 and 59008).

Herbert L. Mitchell,
Associate Administrator for Disaster Assistance.

[FR Doc. E6-6193 Filed 4-24-06; 8:45 am]

BILLING CODE 8025-01-P